COMMITTEE FOR THE IMPLEMENTATION OF TEXTILE AGREEMENTS

Entry of Shipments of Cotton, Wool and Man-Made Fiber Textiles and Apparel in Excess of China Textile Safeguard Limits

November 29, 2005.

AGENCY: The Committee for the Implementation of Textile Agreements (CITA).

ACTION: Issuing a Directive to Commissioner, U.S. Customs and Border Protection.

FOR FURTHER INFORMATION CONTACT: Ross Arnold, International Trade Specialist, Office of Textiles and Apparel, U.S. Department of Commerce, (202) 482-3400.

SUPPLEMENTARY INFORMATION:

Authority: Executive Order 11651 of March 3, 1972, as amended; Section 204 of the Agricultural Act of 1956, as amended (7 U.S.C. 1854).

In a notice and letter to the Commissioner, U.S. Customs and Border Protection, published in the Federal Register on April 26, 2005 (70 FR 21399), CITA announced that shipments in excess of China safeguard limits will be subject to delayed staged entry in a manner similar to the procedure explained in a notice and letter to the Commissioner, U.S. Customs and Border Protection, published in the Federal Register on December 13, 2004 (69 FR 72181). Any overshipments of China safeguard quotas will be subject to the following procedures:

(1) Entry will not be allowed until one month after the expiration date of the safeguard quota.

(2) At that time, only 5 percent of the base limit will be allowed entry for a one month period beginning on that date.

(3) An additional 5 percent will be allowed entry monthly until all overshipments are allowed entry.

Safeguard limits on textile and apparel goods from China have been in place as follows:

Limits for Categories 338/339, cotton knit shirts and blouses; 347/348, cotton trousers; 352/652, cotton and man-made fiber underwear have been in place since May 23, 2005;

Limits for Categories 638/639, man-made fiber knit shirts and blouses; 647/648, man-made fiber trousers; 301, combed cotton yarn; 340/640, men's and boys' cotton and man-made fiber shirts, not knit have been in place since May 27, 2005;

and limits for Categories 349/649, cotton and man-made fiber brassieres and other body supporting garments; 620, other synthetic filament fabric; have been in place since August 31, 2005

The limits for all these categories extend through December 31, 2005. (See 70 FR 29722, 70 FR 30930, 70 FR 52994, respectively). Any overshipments of these limits shall be subject to delayed and staged entry as described above, and as provided specifically in the accompanying directive to the Commissioner, U.S. Customs and Border Protection.

Shipments allowed entry pursuant to paragraph 8 of the Memorandum of Understanding between the Governments of the United States of America and the People's Republic of China concerning Trade in Textile and Apparel Products, signed and dated November 8, 2005 (“Memorandum of Understanding”), will not be subject to staged entry.

Staged entry requirements for overshipments of the October 29, 2004-October 28, 2005 safeguard limits for socks (in Categories 332/432/632part) for the November 1-December 31, 2005 period, and of the agreed level of restraint for socks (in Categories 332/432/632part) have been announced separately, in notices and letters to the Commissioner, U.S. Customs and Border Protection, published in the Federal Register on April 26, 2005 (70 FR 21399); and November 9, 2005 (70 FR 67992).

James C. Leonard III,
Chairman, Committee for the Implementation of Textile Agreements.

Committee for the Implementation of Textile Agreements

November 29, 2005.

Commissioner,

U.S. Customs and Border Protection, Washington, DC 20229.

Dear Commissioner: This directive provides instructions on permitting entry to goods shipped in excess of the China textile safeguard limits on cotton, wool and man-made fiber textiles and apparel products exported from China during the May 23, 2005-December 31, 2005 period (Categories 338/339, 347/348, and 352/652); the May 27, 2005-December 31, 2005 period (Categories 638/639, 647/648, 301, and 40/640); and the August 31, 2005-December 31, 2005 period (Categories 349/649, and 620).

From February 1 through February 28, 2006, you are directed to permit entry of goods in an amount equal to 5 percent of the base limits for the safeguards for 2005. These numbers have been calculated and are shown in the table below. For each succeeding period, beginning on the first of the month, and extending through the last day of the month, you are to permit entry of goods in an amount equal to the amounts in the table below until all shipments in excess of the safeguard limits have been entered.

Category | 5 percent of base limit
301 | 72,539 kilograms.
338/339 | 235,206 dozen.
340/640 | 110,656 dozen.
347/348 | 217,032 dozen.
349/649 | 363,761 dozen.
352/652 | 253,145 dozen.
620 | 616,415 square meters.
638/639 | 142,219 dozen.
647/648 | 133,034 dozen.

The Committee for the Implementation of Textile Agreements has determined that this action falls within the foreign affairs exception to the rulemaking provisions of 5 U.S.C. 553(a)(1).

Sincerely,

James C. Leonard III,

Chairman, Committee for the Implementation of Textile Agreements.

[FR Doc. E5-6842 Filed 12-2-05; 8:45 am]

BILLING CODE 3510-DS-S